DEPARTMENT OF THE INTERIOR

Bureau of Land Management

[LLCAC01000.19XL1109AF.L13100000.DF00000 MO #4500153111]

Notice of Public Meetings of the Central California Resource Advisory Council

AGENCY: Bureau of Land Management, Interior.

ACTION: Notice of public meetings.

SUMMARY: In accordance with the Federal Land Policy and Management Act and the Federal Advisory Committee Act, the U.S. Department of the Interior, Bureau of Land Management's (BLM) Central California Resource Advisory Council (RAC) will meet as follows.

DATES: The RAC will hold a public meeting on Wednesday, Sept. 22, 2021, from 1 p.m. to 5 p.m., with public comments accepted at 4:30 p.m. The RAC will conduct a field tour on Thursday, Sept. 23, 2021, from 8:30 a.m. to 12:30 p.m.

The RAC will hold a business meeting on Wednesday, Nov. 17, 2021, from 1 p.m. to 5 p.m., with public comments accepted at 4:30 p.m. The RAC will conduct a field tour on Thursday, Nov. 18, 2021, from 8:30 a.m. to 12:30 p.m.

If Centers for Disease Control (CDC) COVID-19 guidelines preclude on-site meetings, the field tours will be cancelled, and the business meetings will be held in virtual formats via Zoom on Wednesday, Sept. 22, 2021, and on Wednesday, Nov. 17, 2021.

The meetings and field tours are open to the public.

ADDRESSES: Meeting links and participation instructions will be made available to the public via news media, social media, the BLM California website https://go.usa.gov/xH9ya, and through personal contact 2 weeks prior to the meeting. The Sept. 22 meeting will be held at the BLM Ukiah Field Office, 2550 North State Street, Suite 2, Ukiah, CA 95482. The Sept. 23 field tour will be to the Berryessa Snow Mountain National Monument. The Nov. 17 meeting be held at the Harris Ranch Inn & Restaurant, 24505 West Dorris Avenue, Coalinga, CA 93210. The Nov. 18 field tour will be to the Panoche and Tumey Hills recreation areas.

Written comments pertaining to any of the above meetings can be sent to the BLM Central California District Office, 5152 Hillsdale Circle, El Dorado Hills, CA 95762, Attention: RAC meeting comments.

FOR FURTHER INFORMATION CONTACT: Public Affairs Officer Serena Baker, email: sbaker@blm.gov or telephone: (916) 941-3146. Persons who use a telecommunications device for the deaf (TDD) may call the Federal Relay Service (FRS) at (800) 877-8339 to contact Ms. Baker during normal business hours. The FRS is available 24 hours a day, 7 days a week, to leave a message. You will receive a reply during normal business hours.

SUPPLEMENTARY INFORMATION: The Central California RAC advises the Secretary of the Interior, through the BLM, on a variety of planning and management issues associated with BLM-managed public lands in central California. Topics for these meetings are as follows:

Sept. 22 and 23, 2021: On Sept. 22, the RAC will hear about the BLM Trails and Travel Management Plan for the Berryessa Snow Mountain National Monument and determine how it will participate in the process. The RAC will also be briefed on development of the South Cow Mountain OHV Management Area Recreation Improvement Plan, hear reports from the district and field offices, and schedule meeting dates for 2022. On Sept. 23, the RAC will tour the Berryessa Snow Mountain National Monument that will be affected by the BLM Trails and Travel Management Planning under development.

Nov. 17 and 18, 2021: On Nov. 17, The RAC will discuss development of the San Joaquin Desert Hills Special Recreation Management Area (SRMA) Activity Plan and discuss any action related to the plan development. The RAC will also learn about recreational target shooting impacts throughout the Central California District and hear reports from the district and field offices. On Nov. 18, the RAC will tour public lands in the Panoche and Tumey Hills recreation areas and discuss how the San Joaquin Desert Hills SRMA Activity Plan would apply to these areas.

All meetings are open to the public. Each formal RAC meeting will have time allocated for public comments. Depending on the number of persons wishing to speak and the time available, the amount of time for oral comments may be limited. Written public comments may be sent to the BLM Central California District Office listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT). Meetings and field tours will follow current CDC COVID-19 guidance regarding social distancing and wearing of masks.

Detailed minutes for the RAC meetings will be maintained in the BLM Central California District Office. Minutes will also be posted to the BLM California RAC web page.

(Authority: 43 CFR 1784.4-2)

Carly Summers,
Acting Deputy State Director, Communications.

[FR Doc. 2021-13941 Filed 6-29-21; 8:45 am]

BILLING CODE 4310-40-P